DEPARTMENT OF TRANSPORTATION

Federal Aviation Administration

Environmental Impact Statement: Lafayette Regional Airport, Lafayette, LA

AGENCY: Federal Aviation Administration (FAA), DOT.

ACTION: Notice of availability.

SUMMARY: The FAA is issuing this notice to advise the public that the FAA's Record of Decision (ROD), resulting from an Environmental Impact Statement (EIS) prepared by the Federal Highway Administration (FHWA) for its I-49 Connector Highway Project (State Project No. 700-24-0073 and Federal Aid Project No. DE-0009 (802) through Lafeyette, Louisiana.

FOR FURTHER INFORMATION CONTACT: Joyce M. Porter, Environmental Specialist, ASW-640D, Federal Aviation Administration, Southwest Regional Office, Fort Worth, Texas 76193-0640. Telephone (817) 222-5640.

SUPPLEMENTARY INFORMATION: The FAA is making available a ROD addressing impacts to the Lafayette Regional Airport resulting from the FHWA's selected alternative for its I-49 Connector Highway project at Lafayette, Louisiana. The ROD documents the final Agency decisions regarding the proposed project's impact upon Lafayette Regional Airport as described and analyzed in the EIS. The ROD is available for review during normal business hours at the following locations: FAA Southwest Regional Office, 2601 Meacham Boulevard, Fort Worth, Texas 76137-4298 and at the Lafayette Regional Airport, 200 Terminal Drive, #200, Lafayette, LA 70508.

Issued on: September 23, 2005.
Kelvin L. Solco,
Manager, Airports Division.

[FR Doc. 05-19597 Filed 9-29-05; 8:45 am]

BILLING CODE 4910-13-M